NUCLEAR REGULATORY COMMISSION

[Docket No. 50-458; NRC-2010-0315]

Entergy Operations, Inc.; River Bend Station, Unit 1; Environmental Assessment and Finding of No Significant Impact

The U.S. Nuclear Regulatory Commission (NRC) is considering changes to the Emergency Plan, pursuant to 10 CFR 50.54, “Conditions of licenses,” paragraph (q), for Facility Operating License No. DPF-47, issued Entergy Operations, Inc. (Entergy, the licensee), for operation of the River Bend Station, Unit 1 (RBS), located in West Feliciana Parish, Louisiana. In accordance with 10 CFR 51.21, the NRC performed an environmental assessment. Based on the results of the environmental assessment, the NRC is issuing a finding of no significant impact.

Environmental Assessment

Identification of the Proposed Action

The guidance in NUREG-0654/FEMA-REP-1, Table B-1, “Minimum Staffing Requirements for NRC Licensees for Nuclear Power Plant Emergencies,” for repair and corrective actions states that two individuals, one Mechanical Maintenance/Radwaste Operator and one Electrical Maintenance/Instrumentation and Control (I&C) technician, should be designated for each shift, but their functions may be carried out by shift personnel assigned other duties. The licensee is committed to the guidance in NUREG-0654, but has requested a deviation. Specifically, the proposed action would revise Section 13.3.4.2.2.4, “Plant Systems Engineering, Repair, and Corrective Actions,” and Table 13.3-17, “Shift Staffing and Augmentation Capabilities,” of the RBS Emergency Plan (E-Plan). The revision will allow two maintenance positions on shift to be filled with any combination of the three maintenance craft disciplines. Currently, Table 13.3-17 of the E-Plan only allows Electrical or I&C technicians to fill these two positions.

The proposed action is in accordance with the licensee's application dated January 28, 2010 (Agencywide Documents Access and Management System (ADAMS) Accession No. ML100320044).

The Need for the Proposed Action

The proposed change will allow the required shift complement of two technicians to be any combination from the three maintenance groups. Since the repair and corrective action function is currently filled by I&C technicians, additional actions will be taken to ensure basic electrical/l&C tasks can be performed by Mechanical Maintenance personnel. Mechanical Maintenance personnel will receive training in basic electrical and I&C tasks to ensure that tasks related to these disciplines can be performed if needed in the first 90 minutes of an event. The proposed change will reduce the burden related to scheduling of only selected maintenance technicians on shift.

The NRC staff has concluded that the proposed change will provide greater initial coverage than the NUREG-0654/FEMA-REP-1, Table B-1 requirement and will continue to provide maintenance support capability in the early stages of an event. Based on the on-shift staffing complement designated in the proposed E-Plan change for Repair and Corrective Actions (which is in excess of Table B-1 of NUREG-0654/FEME-REP-1) and the training that will be provided to the Mechanical Maintenance personnel in basic electrical and I&C tasks, the NRC staff believes that adequate on-shift resources exist to support Repair and Corrective Actions within 90 minutes of an event, prior to being relieved by the augmenting Emergency Response Organization.

In addition, the proposed changes to the on-shift and 90-minute augmented I&C Maintenance staffing result in a total of nine personnel designated for Repair and Corrective actions which is in excess of NUREG-0654/FEMA-REP-1, Table B-1's minimum staffing guidance. This will increase the licensee's capability to perform the Repair and Corrective actions during an event.

Based on the above, the NRC staff concludes that the proposed changes to the E-Plan meet the standards of 10 CFR 50.47(b) and the requirements of Appendix E to 10 CFR part 50 and provide reasonable assurance that the licensee will take adequate protective measures in a radiological emergency.

Environmental Impacts of the Proposed Action

The NRC has completed its environmental assessment of the proposed changes to the RBS E-Plan. The staff has concluded that the changes would not significantly affect plant safety and would not have a significant adverse effect on the probability of an accident occurring. The proposed action would not result in an increased radiological hazard beyond those previously analyzed in the Updated Safety Analysis Report. There will be no change to radioactive effluents that affect radiation exposures to plant workers and members of the public. No changes will be made to plant buildings or the site property. Therefore, no changes or different types of radiological impacts are expected as a result of the proposed changes.

The proposed action does not result in changes to land use or water use, or result in changes to the quality or quantity of non-radiological effluents. No changes to the National Pollution Discharge Elimination System permit are needed. No effects on the aquatic or terrestrial habitat in the vicinity or the plant, or to threatened, endangered, or protected species under the Endangered Species Act, or impacts to essential fish habitat covered by the Magnuson-Stevens Act are expected. There are no impacts to the air or ambient air quality. There are no impacts to historical and cultural resources. There would be no noticeable effect on socioeconomic conditions in the region. Therefore, no changes or different types of non-radiological environmental impacts are expected as a result of the proposed action. Accordingly, the NRC concludes that there are no significant environmental impacts associated with the proposed action.

The details of the NRC staff's safety evaluation will be provided with the license amendment that will be issued to the licensee approving the E-Plan changes.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for the RBS, dated January 1985.

Agencies and Persons Consulted

In accordance with its stated policy, on September 21, 2010, the NRC staff consulted with the Louisiana State official, Ms. Ji Wiley, of the Louisiana Emergency and Radiological Services Division, Louisiana Department of Environmental Quality, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated January 28, 2010. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland this 28th day of September 2010.
For the Nuclear Regulatory Commission.
Alan B. Wang,
Project Manager, Plant Licensing Branch IV, Division of Operating Reactor Licensing, Office of Nuclear Reactor Regulation.

[FR Doc. 2010-24808 Filed 10-1-10; 8:45 am]

BILLING CODE 7590-01-P